DEPARTMENT OF TRANSPORTATION

Office of the Secretary

Aviation Proceedings, Agreements Filed the Week Ending April 30, 2004

The following Agreements were filed with the Department of Transportation under the provisions of 49 U.S.C. 412 and 414. Answers may be filed within 21 days after the filing of the application.

Docket Number: OST-2004-17628.

Date Filed: April 26, 2004.

Parties: Members of the International Air Transport Association.

Subject: MV/PSC/007 dated 18 March, 2004, Mail Vote Number S 078, Necessary Amendments to PSC Standards to Reflect Changes to EC Antitrust Enforcement Procedures r1 to r30, Intended effective date: 1 May 2004.

Docket Number: OST-2004-17630.

Date Filed: April 26, 2004.

Parties: Members of the International Air Transport Association.

Subject: MV/PSC/008 dated 22 March 2004, Mail Vote Number S 079, Recommended Practice 1724—General Conditions of Carriage, Changes to Better Reflect the Montreal Convention 1999 (r1), Intended effective date: 1 June 2004.

Docket Number: OST-2004-17669.

Date Filed: April 29, 2004.

Parties: Members of the International Air Transport Association.

Subject: Mail Vote 369—Resolution 010p, TC31 North and Central Pacific, Special Passenger Amending Resolution from Korea (Rep. of) to USA r1, Intended effective date: 15 May 2004.

Docket Number: OST-2004-17670.

Date Filed: April 29, 2004.

Parties: Members of the International Air Transport Association.

Subject: Mail Vote 372 Resolution 010t, TC31 North and Central Pacific, Special Passenger Amending Resolution from Philippines to Canada, USA r-1, Intended effective date: 15 May 2004.

Andrea M. Jenkins,
Program Manager, Docket Operations, Federal Register Liaison.

[FR Doc. 04-10811 Filed 5-12-04; 8:45 am]

BILLING CODE 4910-62-P